DEPARTMENT OF VETERANS AFFAIRS

[OMB Control No. 2900-0521]

Agency Information Collection Activity under OMB Review: Certification of Loan Disbursement, Request for Verification of Employment and Request for Verification of Deposit

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments and recommendations for the proposed information collection should be sent by September 17, 2025.

ADDRESSES: To submit comments and recommendations for the proposed information collection, please type the following link into your browser: www.reginfo.gov/public/do/PRAMain, select “Currently under Review—Open for Public Comments”, then search the list for the information collection by Title or “OMB Control No. 2900-0521.”

FOR FURTHER INFORMATION CONTACT: Dorothy Glasgow, 202-461-1084, VAPRA@va.gov.

SUPPLEMENTARY INFORMATION:

Title: Certification of Loan Disbursement, Request for Verification of Employment and Request for Verification of Deposit (VA Form 26-1820, VA Form 26-8497, VA Form 26-8497a).

OMB Control Number: 2900-0521 https://www.reginfo.gov/public/do/PRASearch.

Type of Review: Revision of a currently approved collection.

Abstract: VA Form 26-1820 is used for loans closed on the prior approval and automatic basis. Lenders complete and submit this form to close VA loans under 38 U.S.C. 3710 and thereby complies with the provisions of 38 U.S.C. 3702(c) which requires lenders to report to the Secretary on loans guaranteed or insured.

In addition, certifications that are to be provided to the Veteran were added that were included in OMB Control #2900-0144. The respondent burden has decreased due to the estimate number of respondents.

An agency may not conduct or sponsor, and a person is not required to respond to a collection of information unless it displays a currently valid OMB control number.

The Federal Register Notice with a 60-day comment period soliciting comments on this collection of information was published at 90 FR 31581, July 14, 2025.

Affected Public: Individuals or Households.

Estimated Number of Respondents: 464,000.

Frequency of Response: Annually.

Estimated Annual Burden: 154,475 hours.

Estimated Average Burden per Respondent: 35 minutes.

Authority: 44 U.S.C. 3501 et seq.

Dorothy Glasgow,
Acting, VA PRA Clearance Officer, Office of Enterprise and Integration, Data Governance Analytics, Department of Veterans Affairs.

[FR Doc. 2025-17980 Filed 9-16-25; 8:45 am]

BILLING CODE 8320-01-P